FEDERAL COMMUNICATIONS COMMISSION

47 CFR Part 1

[WT Docket Nos. 02-381, 01-14, and 03-202; FCC 04-166]

Facilitating the Provision of Spectrum-Based Services to Rural Areas and Promoting Opportunities for Rural Telephone Companies To Provide Spectrum-Based Services

AGENCY: Federal Communications Commission.

ACTION: Final rule; announcement of effective date.

SUMMARY: The Federal Communications Commission (Commission) announces that a certain rule adopted in its Rural Services proceeding (WT Docket Nos. 02-381, 01-14, and 03-202; FCC 04-166) in 2004, to the extent it contained an information collection requirement that required approval by the Office of Management and Budget (OMB) was approved, and became effective March 10, 2005, following approval by OMB.

DATES: 47 CFR 1.919(c) published at 69 FR 75144 (December 15, 2004) and contained an information collection requirement that became effective March 10, 2005.

FOR FURTHER INFORMATION CONTACT: Allen A. Barna, Wireless Telecommunications Bureau, at (202) 418-0620, or at Allen.Barna@fcc.gov. For additional information concerning the information collection contained in this document, contact Judith-B. Herman at (202) 418-0214, or at Judith-B.Herman@fcc.gov.

Announcement of Effective Date of a Certain Commission Rule

1. On July 8, 2004, the Commission adopted a Report and Order (Report and Order) in WT Docket Nos. 02-381, 01-14, and 03-202; FCC 04-166, a summary of which was published at 69 FR 75144 (Dec. 15, 2004). In that Report and Order, the Commission stated that, upon OMB approval, it would publish in the Federal Register a document announcing the effective date of the change to 47 CFR 1.919(c).

2. On March 10, 2005, OMB approved the public information collection associated with this rule change under OMB Control No. 3060-0799. Therefore, the change to 47 CFR 1.919(c) became effective on March 10, 2005.

Federal Communications Commission.
Marlene H. Dortch,
Secretary.

[FR Doc. 05-8213 Filed 4-26-05; 8:45 am]

BILLING CODE 6712-01-P